COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add to the Procurement List products and a service to be furnished by nonprofit agencies employing persons who are blind or have other severe disabilities and to delete products and service previously furnished by such agencies.

Comments Must Be Received on or Before: 3/1/2009.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice for each product or service will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List.

Comments on this certification are invited. Commenters should identify the numbered statement(s) above about which they are providing additional information.

End of Certification

The following products and service are proposed for addition to Procurement List for production by the nonprofit agencies listed:

Products

NSN: 8105-00-NIB-1301—Bag, Sand, Digital Camouflage.

NPA: South Texas Lighthouse for the Blind, Corpus Christi, TX.

Contracting Activity: Federal Acquisition Service, GSA/FSS OFC SUP CTR—Paper Products.

Coverage: B-list for the broad Government requirement as specified by the General Services Administration.

NSN: 7520-00-NIB-1790—Pen, Retractable .7MM Black (Vista Secure Gel).

NSN: 7520-00-NIB-1972—Pen, Retractable .7MM Blue (Vista Secure Gel).

NPA: Industries of the Blind, Inc., Greensboro, NC.

Contracting Activity: Federal Acquisition Service, GSA/FSS Ofc Sup Ctr—Paper Products.

Coverage: A-list for the total Government requirement as aggregated by the General Services Administration.

Liner, Parka, U.S. Navy

NSN: 8415-01-539-3971—XSMALL-XShort.

NSN: 8415-01-539-3988—SMALL-XShort.

NSN: 8415-01-539-3990—MEDIUM-XShort.

NSN: 8415-01-539-3997—LARGE-XShort.

NSN: 8415-01-539-4001—XSMALL-Short.

NSN: 8415-01-539-4011—SMALL-Short.

NSN: 8415-01-539-4028—MEDIUM-Short.

NSN: 8415-01-539-4031—LARGE-Short.

NSN: 8415-01-539-4041—XLARGE-Short.

NSN: 8415-01-539-4045—XSMALL-Reg.

NSN: 8415-01-539-4049—SMALL-Reg.

NSN: 8415-01-539-4056—MEDIUM-Reg.

NSN: 8415-01-539-4058—LARGE-Reg.

NSN: 8415-01-539-4109—XLARGE-Reg.

NSN: 8415-01-539-4114—2XLARGE-Reg.

NSN: 8415-01-539-4119—XSMALL-LONG.

NSN: 8415-01-539-4609—SMALL-LONG.

NSN: 8415-01-539-4619—MEDIUM-LONG.

NSN: 8415-01-539-4625—LARGE-LONG.

NSN: 8415-01-539-4631—XLARGE-LONG.

NSN: 8415-01-539-4635—2XLARGE-LONG.

NSN: 8415-01-539-4658—SMALL-Xlong.

NSN: 8415-01-539-4664—MEDIUM-Xlong.

NSN: 8415-01-539-4667—LARGE-Xlong.

NSN: 8415-01-539-4671—XLARGE-Xlong.

NSN: 8415-01-539-4677—2XLarge-Xlong.

NPA: Winston-Salem Industries for the Blind, Winston-Salem, NC.

Contracting Activity: Defense Logistics Agency, Defense Supply Center Philadelphia.

Coverage: C-list for the remaining portion (beyond three years and above 735,000 units) of the government requirement for the Defense Supply Center Philadelphia, Philadelphia, PA.

Service

Service Type/Location: Facility Support Operations, Fort Polk, LA, Directorate of Public Works, Fort Polk, LA.

NPA: PRIDE Industries, Roseville, CA.

Contracting Activity: Dept of the Army, XR W6BB ACA Polk.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products and service to the Government.

3. There are no known regulatory alternatives which would accomplish the objectives of the Javits-Wagner-O'Day Act (41 U.S.C. 46-48c) in connection with the products and service proposed for deletion from the Procurement List.

End of Certification

The following product and service are proposed for deletion from the Procurement List:

Product

Presentation Sheets, “SmartChart”

NSN: 7520-01-483-8986—Presentation Sheets, “SmartChart Pro.”

NPA: The Lighthouse for the Blind, Inc. (Seattle Lighthouse), Seattle, WA.

Contracting Activity: GSA/FSS Ofc Sup Ctr—Paper Products, New York, NY.

Service

Service Type/Location: Recycling/Recovery Service, McConnell, 22 CONS/LGC, McConnell AFB, KS.

NPA: MCDS Federal Contracting, Inc., McPherson, KS.

Contracting Activity: Dept of the Air Force, FA4621 22 CONS LGC.

Barry S. Lineback,
Acting Director, Program Operations.

[FR Doc. E9-2032 Filed 1-29-09; 8:45 am]

BILLING CODE 6353-01-P